DEPARTMENT OF COMMERCE

United States Patent and Trademark Office

37 CFR Part 1

[Docket No.: 010202029-1112-02]

RIN 0651-AB35

Revision of Patent Cooperation Treaty Application Procedure; Correction

AGENCY: United States Patent and Trademark Office, Commerce.

ACTION: Final rule; correction.

SUMMARY: The United States Patent and Trademark Office (Office) published a final rule in the Federal Register of March 22, 2001, revising the rules of practice relating to applications filed under the Patent Cooperation Treaty (PCT) to conform the United States rules of practice to the PCT Regulations that became effective on March 1, 2001. This document corrects three errors in that final rule.

EFFECTIVE DATE: March 22, 2001.

FOR FURTHER INFORMATION CONTACT: Charles Pearson, Director, Office of PCT Legal Administration, by telephone at (703) 306-4145; or by mail addressed to: Box PCT, Commissioner for Patents, Washington, DC 20231; or by facsimile to (703) 308-6459, marked to the attention of Charles Pearson.

SUPPLEMENTARY INFORMATION: The Office published a final rule in the Federal Register of March 22, 2001 (66 FR 16004), entitled “Revision of Patent Cooperation Treaty Application Procedure.” This document corrects errors in §§ 1.494(c)(2), 1.495(c)(2), and 1.497(a)(1).

Specifically, §§ 1.494(c)(2) and 1.495(c)(2) as revised in the above final rule inadvertently omitted the provisions that:

The payment of the processing fee set forth in § 1.492(f) is required for acceptance of an English translation later than the expiration of 20 [or 30] months after the priority date. The payment of the surcharge set forth in § 1.492(e) is required for acceptance of the oath or declaration of the inventor later than the expiration of 20 [or 30] months after the priority date. A “Sequence Listing” need not be translated if the “Sequence Listing” complies with PCT Rule 12.1(d) and the description complies with PCT Rule 5.2(b).

Section 1.497(a)(1) as revised in the above final rule inadvertently omitted the section symbols before the reference to §§ 1.66 or 1.68.

In rule FR Doc. 01-7132, published on March 22, 2001 (66 FR 16004), make the following corrections:

1. On page 16006, in the second column, in § 1.494, in paragraph (c)(2), add the following sentences to the end thereof:

§ 1.494 Entering the national stage in the United States of America as a designated office.

* * * * *

(c) * * *

(2) * * * The payment of the processing fee set forth in § 1.492(f) is required for acceptance of an English translation later than the expiration of 20 months after the priority date. The payment of the surcharge set forth in § 1.492(e) is required for acceptance of the oath or declaration of the inventor later than the expiration of 20 months after the priority date. A “Sequence Listing” need not be translated if the “Sequence Listing” complies with PCT Rule 12.1(d) and the description complies with PCT Rule 5.2(b).

* * * * *

2. On page 16006, in the third column, in § 1.495, in paragraph (c)(2), add the following sentences to the end thereof:

§ 1.495 Entering the national stage in the United States of America as an elected office.

* * * * *

(c) * * *

(2) * * * The payment of the processing fee set forth in § 1.492(f) is required for acceptance of an English translation later than the expiration of 30 months after the priority date. The payment of the surcharge set forth in § 1.492(e) is required for acceptance of the oath or declaration of the inventor later than the expiration of 30 months after the priority date. A “Sequence Listing” need not be translated if the “Sequence Listing” complies with PCT Rule 12.1(d) and the description complies with PCT Rule 5.2(b).

* * * * *

1.497 [Corrected]

3. On page 16006, in the third column, in § 1.497, in paragraph (a)(1), line 2, correct “either 1.66 or 1.68” to read “either §§ 1.66 or 1.68”.

Dated: May 15, 2001.
Nicholas P. Godici,
Acting Under Secretary of Commerce for Intellectual Property and Acting Director of the United States Patent and Trademark Office.

[FR Doc. 01-12764 Filed 5-21-01; 8:45 am]

BILLING CODE 3510-16-P